DEPARTMENT OF DEFENSE

Department of the Army

Availability for Non-Exclusive, Exclusive, or Partially Exclusive Licensing of U.S. Patent Concerning a Simple PCR Technique for Detecting and Differentiating Bacterial Pathogens

AGENCY: Department of the Army, DOD.

ACTION: Notice.

SUMMARY: In accordance with 37 CFR 404.6, announcement is made of the availability for licensing of U.S. Patent No. 5,958,686 entitled “A Simple PCR Technique for Detecting and Differentiating Bacterial Pathogens” issued September 28, 1999. The United States Government as represented by the Secretary of the Army has rights in this invention.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: A simple polymerase chain reaction procedure is described for the detection and differentiation of Shigella from other pathodenic Escherichia coli isolates, such as EIEC and EPEC. Serotype specific primers derived from the rfc genes of different Shigella strains are used to identify the most prominents Shigella serotypes, such as S. sonnei, S. flexneria 1 through 5, and S. dysenteriae 1. More than 95% of Shigellosis cases reported could be identified by the serotype specific primers described.

Luz D. Ortiz,
Army Federal Register Liaison Officer.

[FR Doc. 02-5248 Filed 3-5-02; 8:45 am]

BILLING CODE 3710-08-M